Proclamation 7874 of March 4, 2005

Save Your Vision Week, 2005

By the President of the United States of America

A Proclamation

Eye disease causes suffering, loss of productivity, and diminished quality of life for millions of Americans. During Save Your Vision Week, we raise awareness of eye disease and encourage all our citizens to take action to safeguard their eyesight.

As people age, they can develop conditions that affect eyesight, including cataracts, glaucoma, retinal disorders, dry eye, and low vision. Through regular eye exams, many of these problems can be detected and treated early, reducing the risk of vision loss. The National Institute on Aging, part of the National Institutes of Health (NIH), suggests five steps for all Americans to take to protect their eyesight: regular physical exams; a complete eye exam every 1 to 2 years; a check of family history; immediate attention if you notice any loss of eyesight, eye pain, or other eye problems; and use of sunglasses and a hat to protect eyes from the damaging effects of ultraviolet rays.

My Administration is committed to helping Americans lead better, healthier lives. We have doubled funding for the NIH, helping the United States to stay on the leading edge of medical research and technological change. Through education, prevention, early detection, and further research into effective treatments for eye disease, we can bring hope and comfort to our citizens and help more Americans keep the precious gift of sight.

The Congress, by joint resolution approved December 30, 1963, as amended (77 Stat. 629; 36 U.S.C. 138), has authorized and requested the President to proclaim the first week in March of each year as “Save Your Vision Week.”

NOW, THEREFORE, I, GEORGE W. BUSH, President of the United States of America, do hereby proclaim March 6 through March 12, 2005, as Save Your Vision Week. I encourage eye care professionals, teachers, the media, and public and private organizations dedicated to preserving eyesight to join in activities that will raise awareness of the measures all citizens can take to protect vision.

IN WITNESS WHEREOF, I have hereunto set my hand this fourth day of March, in the year of our Lord two thousand five, and of the Independence of the United States of America the two hundred and twenty-ninth.

B

[FR Doc. 05-4757

Filed 3-8-05; 8:45 am]

Billing code 3195-01-P